DEPARTMENT OF HOMELAND SECURITY

Coast Guard

[Docket No. USCG-2022-0572]

National Offshore Safety Advisory Committee; September 2022 Meeting

AGENCY: U.S. Coast Guard, Department of Homeland Security.

ACTION: Notice of Federal Advisory Committee meeting.

SUMMARY: The National Offshore Safety Advisory Committee (Committee) will meet to discuss matters relating to activities directly involved with, or in support of, the exploration of offshore mineral and energy resources, to the extent that such matters are within the jurisdiction of the United States Coast Guard. The meeting will be open to the public.

DATES:

Meeting: The Committee will hold a meeting on Wednesday, September 14, 2022, from 8 a.m. until 5:30 p.m. Central Daylight Time (CDT). Please note the meeting may close early if the Committee has completed its business.

Comments and supporting documents: To ensure your comments are reviewed by Committee members before the meeting, submit your written comments no later than August 31, 2022.

ADDRESSES: The meeting will be held at the American Bureau of Shipping conference facility located at 1701 City Plaza Drive, Spring, Texas 77389. Attendees at the meeting will be required to follow COVID-19 safety guidelines promulgated by the Centers for Disease Control and Prevention (CDC), which may include the need to wear masks. CDC guidance on COVID protocols can be found here: https://www.cdc.gov/coronavirus/2019-ncov/communication/guidance.html.

The National Offshore Safety Advisory Committee is committed to ensuring all participants have equal access regardless of disability status. If you require reasonable accommodation due to a disability to fully participate, please call or email the individual in the FOR FURTHER INFORMATION CONTACT section of this notice.

Instructions: You are free to submit comments at any time, including orally at the meeting as time permits, but if you want Committee members to review your comment before the meeting, please submit your comments no later than August 31, 2022. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2022-0572]. Comments received will be posted without alteration at https://www.regulations.gov, including any personal information provided. You may wish to review the Privacy and Security notice available on the homepage of https://www.regulations.gov and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Lieutenant Commander Kimberly Gates, Alternate Designated Federal Officer of the National Offshore Safety Advisory Committee, 2703 Martin Luther King Jr Ave. SE, Stop 7509, Washington, DC 20593-7509, telephone 202-372-1455 or Kimberly.M.Gates@uscg.mil.

SUPPLEMENTARY INFORMATION: Notice of this meeting is given pursuant to the Federal Advisory Committee Act, (5 U.S.C. appendix). The National Offshore Safety Advisory Committee was established on December 4, 2018, by section 601 of the Frank LoBiondo Coast Guard Authorization Act of 2018 (Pub. L. 115-282, 132 Stat. 4192), and amended by section 8331 of the Elijah E. Cummings Coast Guard Authorization Act of 2022 (Pub. L. 116-283). That authority is codified in 46 U.S.C. 15106. The Committee operate under the provisions of the Federal Advisory Committee Act, (5 U.S.C. appendix), and 46 U.S.C. 15109. The Committee provides advice and recommendations to the Secretary of Homeland Security on matters relating to activities directly involved with, or in support of, the exploration of offshore mineral and energy resources, to the extent that such matters are within the jurisdiction of the United States Coast Guard.

Agenda

The agenda for the September 14, 2022 meeting is as follows:

(1) Call to order.

(2) Roll call and determination of quorum.

(3) Adoption of previous meeting minutes and agenda.

(4) Opening remarks.

(5) Update from the Shell AUGER Subcommittee.

(6) New business.

(7) Public comment period.

(8) Closing remarks/plans for next meeting.

(9) Adjournment of meeting.

A copy of all meeting documentation will be available at:

https://homeport.uscg.mil/missions/ports-and-waterways/safety-advisory-committees/nosac/organization no later than August 31, 2022. Alternatively, you may contact Lieutenant Commander Kimberly Gates as noted in the FOR FURTHER INFORMATION CONTACT section above.

During the September 14, 2022 meeting, a public comment period will be held from approximately 4:30 p.m. to 5 p.m. CDT. Speakers are requested to limit their comments to 3 minutes. Please note that this public comment period may start before 4:30 p.m. CDT if all other agenda items have been covered and may end before 5 p.m. CDT if all of those wishing to comment have done so.

Please contact the individual listed in the FOR FURTHER INFORMATION CONTACT section to register as a speaker.

Dated: August 5, 2022.
Jeffrey G. Lantz,
Director of Commercial Regulations and Standards.

[FR Doc. 2022-17442 Filed 8-12-22; 8:45 am]

BILLING CODE 9110-04-P